DEPARTMENT OF TRANSPORTATION

Federal Motor Carrier Safety Administration

[Docket No. FMCSA-2014-0325]

Agency Information Collection Activities; New Information Collection Request: The Impact of Driver Compensation on Commercial Motor Vehicle Safety

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The FMCSA requests approval of a new ICR titled, “The Impact of Driver Compensation on Commercial Motor Vehicle Safety,” to assess the current compensation practices of commercial vehicle drivers and the potential influence this may have on safe commercial vehicle operations.

DATES: Please send your comments by March 6, 2015. OMB must receive your comments by this date in order to act quickly on the ICR.

ADDRESSES: All comments should reference Federal Docket Management System (FDMS) Docket Number FMCSA-2014-0325. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street, NW., Washington, DC 20503.

FOR FURTHER INFORMATION CONTACT: Ms. Theresa Hallquist, Analysis, Research and Technology Division, Department of Transportation, FMCSA, West Building 6th Floor, 1200 New Jersey Avenue SE., Washington, DC 20590. Telephone: 202-366-1064; email: theresa.hallquist@dot.gov. Office hours are from 9 a.m. to 5 p.m., Monday through Friday, except Federal Holidays.

SUPPLEMENTARY INFORMATION: Title: The Impact of Driver Compensation on Commercial Motor Vehicle Safety.

OMB Control Number: 21XX-00XX.

Type of Request: New information collection.

Respondents: Safety Managers, Operations Managers or Owner Operators of commercial motor carriers companies.

Estimated Number of Respondents: 2184.

Estimated Time per Response: Minimum response = 0.27; Maximum response = 1.02 hours.

Expiration Date: N/A. This is a new information collection.

Frequency of Response: One questionnaire per participant.

Estimated Total Annual Burden: 1343 hours (Group 1 is defined as very small and small carriers and Group 2 is defined as medium and large carriers. (1164 Group 1 respondents × 0.27 hours = 303 hours) + (1020 Group 2 respondents × 1.02 hours = 1,040 hours)).

Background: The study will evaluate the relationship between property carrying motor carriers compensation methods and incidences of unsafe driving. In particular, the research team will determine if there is a potential relationship between method of driver compensation and safe driving behavior. This study will be conducted using an online questionnaire. Randomly selected non-passenger motor carriers will be notified by letter from the FMCSA that explains the study and elicits their participation. Participants will receive an email directing them to a Web site to complete the online questionnaire. This study will assist motor carriers and other stakeholders engaged in commercial vehicle safety by enabling them to make informed decisions regarding driver compensation as it relates to safe driving performance. The form MCSA-5887 will be used in an electronic format on the web to collect responses from study participants. The results of the study will be available to the public in 2015 and will be published on the FMCSA publications and reports Web site, www.fmcsa.dot.gov. No physical or psychological risks to individuals are anticipated as a result of the study, nor are risks to personally identifiable information.

Comments From the Public: On August 29, 2014, FMCSA published a Federal Register notice (79 FR 51638) allowing for a 60-day comment period on this ICR. The Agency received forty-seven (47) unique public comments which have been reviewed and grouped by common themes. Note that there are 49 comments indicated for the notice. Two of these comments are duplicate postings. Some comments addressed multiple themes but are grouped here only by their primary theme. These themes and the FMCSA responses are included below. Formal comments were received from the following organizations: the American Trucking Associations; Road Safe America; the AFL-CIO Amalgamated Transit Union; the AFL-CIO Transportation Trades Department; and the Owner-Operator Independent Driver Association. The FMCSA has responded in kind to these organizations with formal and direct communication; however, in addition, these comments have been assessed for common themes and are reflected in the agency's responses below along with the entirety of the public comments. The full analysis of the public comments and their subsequent responses are illustrated in a document titled, FMCSA_Response_To_FRN2014-0325, which can be accessed and viewed in the supplemental section for this notice.

The FMSCA responses to the public comments are as follows:

Theme: Total compensation influences driver safety.

FMCSA Response: There could be many factors that influence safe driving performance. Fatigue, as you point out is most certainly one of them as past research has shown. Although this research will focus on possible relationships between the various methods of compensating truck drivers and unsafe driving practices, data will be collected on total compensation allowing this variable to be assessed for influence on safe driving performance as well.

Theme: Hourly pay is the best method of compensation to influence safe driving behavior.

FMCSA Response: The proposed study will assess any relationship between all of the collected compensation methods and safe driving behavior. The study will address hourly pay as well as others to determine if a relationship between compensation method and unsafe driver behaviors exists.

Theme: Pay by the mile/load compensation methods lead to unsafe driving behavior.

FMCSA Response: The goal of the proposed study is to evaluate all compensation methods including pay by the mile or load, but the study will not focus on or emphasize one method over another and determine if there is any relationship to safe driving behavior.

Theme: Driver experience, integrity, selection and training are factors in safe driving performance.

FMCSA Response: Driver experience may very well be a relevant factor in safe driving performance. The proposed study will solicit driver total driving experience as a variable; however, the goal will be to assess that factor as it relates to method of compensation. The FMCSA may consider specifically studying driver experience, selection and training in future research efforts.

Theme: Drivers should be compensated for “on-duty not driving time” to reduce fatigue.

FMCSA Response: This study will solicit information on all of the variations in compensation methods for a commercial driver, including for on-duty not driving time such as standing, waiting, loading and unloading. The goal of this study is to understand all of the elements of compensation and determine if there are any common factors that influence safe driving performance. Fatigue has been shown to be a factor in driver performance and has been linked to crash causation through other studies conducted in recent years.

Theme: Fatigue influences driver safety performance.

FMCSA Response: Public comments make several points about the Hours of Service rules that suggest they enable drivers to drive while fatigued. Past studies have shown that fatigue has played a factor in crashes. The proposed study does not assess the influence of the Hours of Service regulation with regards to safety but will use recent violations related to safe driving such as speeding as a measure of safe driving behavior.

Theme: Drivers of non-commercial vehicles should be trained on safe interaction with commercial vehicles and should have hours of service regulations imposed on their driving behavior.

FMCSA Response: FMCSA acknowledges the influence that the motoring public has on the roadways with regards to integration with commercial motor vehicles. To that end, FMCSA is actively engaged in outreach and education campaigns such as The No-Zone and Ticketing Aggressive Cars and Trucks (TACT) on a national and state level to increase the awareness of the public. Given that FMCSA's authority does not extend to regulation of the general public, the agency cannot regulate their behaviors.

Theme: The FMCSA should focus its efforts on issues directly related to its core mission (to reduce crashes, injuries and fatalities involving large trucks and buses) and not engage its resources with the business relationship between motor carriers and drivers.

FMCSA Response: The FMCSA strives to pursue its mission using a strategic approach that not only includes enhancing and enforcing the Federal Motor Carrier Regulations but also reducing the number and severity of commercial motor vehicle (CMV) crashes and enhancing the efficiency of CMV operations by conducting systematic studies directed toward fuller scientific discovery, knowledge, or understanding (FMCSA Analysis, Research and Technology Mission Statement). Conducting research to understand the nature of an industry or entity and the means by which it conducts its business and operations is at the heart of any safety-conscious work environment including the motor carrier industry. The proposed study is within the FMCSA's mission and is in the best interests of public safety and the motor carrier industry.

Theme: The proposed study implies the FMCSA has a predisposition to eliminating all forms of pay except hourly.

FMCSA Response: This study is designed to capture information on all methods of pay across the motor carrier industry independent of the type of operation and assess its potential relationship to safe driver behavior. This research is being conducted to determine whether there is a statistical relationship between method of driver compensation and safety.

Theme: The proposed ICR needs to consider additional influential variables related to safety performance.

FMCSA Response: The FMCSA acknowledges that many factors may affect safe driving performance such as driver experience, training, type of operation, as well as geographic location and so on. This study will focus on how compensation of any method or combination affects driver safety performance. Future research efforts may focus on other areas of carrier operations or driver performance.

Theme: The FMCSA needs to improve the quality of investigative activities to foster safety through compliance.

FMCSA Response: The proposed study does not address investigative activities and their relationship to safe driving behavior but may be considered for future research. The FMCSA is continuously improving its approach and quality of field activities through policy and training efforts.

Theme: Passenger carrier companies and drivers and the impact of overtime exemptions should be included in the proposed research.

FMCSA Response: The Motorcoach industry is a unique operating environment with a differing set of variables that may influence the research. The FMCSA recognizes the value of understanding the potential effects that compensation may have on safety as well as many other industry issues. The proposed study is focused on non-passenger commercial operations but will address overtime as a component of compensation packages. Future research efforts may be designed to include passenger carrier operations and their unique operational characteristics.

Theme: The proposed research should include driver's insights on how compensation impacts safety performance. Further, the study should be concerned with truthful reporting and the quality of information from respondents.

FMCSA Response: The proposed study will use current data from the FMCSA safety data systems collected from carrier investigations and roadside activities. This data is driver specific and will be used to compare safety performance to compensation methods. In the case where a motor carrier has only one method of pay, a direct relationship can be considered. However, in the case where multiple methods of pay are used by a single carrier, then the survey questionnaire will expand to solicit individual driver compensation characteristics and safety history. In this way, the research considers drivers and their contribution to the safety. Truthful reporting is always a concern in any research effort. The goal is to remove as much opinion and focus on verifiable, quantitative data. The FMCSA recognizes the need to validate collected information and will use all means available to cross-reference data where possible.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority of 49 CFR 1.87 on: January 23, 2015.
G. Kelly Regal,
Associate Administrator for Office of Research and Information Technology and Chief Information Officer.

[FR Doc. 2015-02136 Filed 2-3-15; 8:45 am]

BILLING CODE 4910-EX-P